DEPARTMENT OF HEALTH AND HUMAN SERVICES

National Institutes of Health

Office of the Director, National Institutes of Health; Amended Notice of Meeting

Notice is hereby given of a change in the meeting of the Recombinant DNA Advisory Committee, December 5, 2006, 8 a.m. to December 6, 2006, 6 p.m., National Institutes of Health, Building 31, 31 Center Drive, Bethesda, MD 20892 which was published in the Federal Register on November 13, 2006, 71 FR 218, page 66180.

The meeting of the Recombinant DNA Advisory Committee will begin on December 5 at 12 noon and will end December 6, 2006 at 6 p.m. instead of 8 a.m. to 6 p.m. The meeting is open to the public.

Dated: November 16, 2006.
Anna Snouffer,
Acting Director, Office of Federal Advisory Committee Policy.

[FR Doc. 06-9387 Filed 11-22-06; 8:45 am]

BILLING CODE 4140-01-M